DEPARTMENT OF TRANSPORTATION

National Highway Traffic Safety Administration

49 CFR Part 541

[Docket No. NHTSA-2006-23934]

RIN 2127-AJ89

Federal Motor Vehicle Theft Prevention Standard; Final Listing of 2007 Light Duty Truck Lines Subject to the Requirements of This Standard and Exempted Vehicle Lines for Model Year 2007

AGENCY: National Highway Traffic Safety Administration (NHTSA), Department of Transportation.

ACTION: Final rule.

SUMMARY: This final rule announces NHTSA's determination that no new model year (MY) 2007 light duty truck lines are subject to the parts-marking requirements of the Federal motor vehicle theft prevention standard because they have been determined by the agency to be high-theft or that they have a majority of interchangeable parts with those of a passenger motor vehicle line. This final rule also identifies those vehicle lines that are exempted from the parts-marking requirements because the vehicles are equipped with antitheft devices determined to meet certain statutory criteria pursuant to the statute relating to motor vehicle theft prevention.

EFFECTIVE DATE: The amendment made by this final rule is effective April 19, 2006.

FOR FURTHER INFORMATION CONTACT: Ms. Rosalind Proctor, Consumer Standards Division, Office of International Vehicle, Fuel Economy and Consumer Standards, NHTSA, 400 Seventh Street, SW., Washington, DC 20590. Ms. Proctor's telephone number is (202) 366-0846. Her fax number is (202) 493-2290.

SUPPLEMENTARY INFORMATION: On April 6, 2004, the agency published in the Federal Register (69 FR 17960) a final rule extending the parts marking requirements to certain vehicle lines that were not previously subject to these requirements: (1) All low-theft passenger car lines; (2) all low-theft multipurpose passenger vehicle (MPV) lines with a gross vehicle weight rating (GVWR) of 6,000 pounds or less; and (3) low-theft light-duty truck (LDT) lines with a GVWR of 6,000 pounds or less that have major parts that are interchangeable with a majority of the covered major parts of passenger cars or MPVs. The high-theft vehicle lines that were previously exempted under 49 CFR part 543 on the grounds that they were equipped with an antitheft device as standard equipment were unaffected by the April 2004 final rule. The agency also stated that it would continue to grant exemptions for one vehicle line per model year. The final rule is effective September 1, 2006.

The purpose of the theft prevention standard (49 CFR part 541) is to reduce the incidence of motor vehicle theft by facilitating the tracing and recovery of parts from stolen vehicles. The standard seeks to facilitate such tracing by requiring that vehicle identification numbers (VINs), VIN derivative numbers, or other symbols be placed on major component vehicle parts. The theft prevention standard requires motor vehicle manufacturers to inscribe or affix VINs onto covered original equipment major component parts, and to inscribe or affix a symbol identifying the manufacturer and a common symbol identifying the replacement component parts for those original equipment parts, on all vehicle lines subject to the requirements of the standard.

Section 33104(d) provides that once a line has become subject to the theft prevention standard, the line remains subject to the requirements of the standard unless it is exempted under section 33106. Section 33106 provides that a manufacturer may petition to have a line exempted from the requirements of section 33104, if the line is equipped with an antitheft device as standard equipment. The exemption is granted if NHTSA determines that the antitheft device is likely to be as effective as compliance with the theft prevention standard in reducing and deterring motor vehicle thefts.

The agency annually publishes the names of those vehicle lines that are exempted from the theft prevention standard for a given model year under section 33104. Appendix A to Part 541 identifies those new light-duty truck lines listed for the first time that will be subject to the theft prevention standard beginning in a given model year. Appendix A-I to Part 541 identifies those vehicle lines that are or have been exempted from the theft prevention standard.

On May 19, 2005, the final listing of MY 2006 high-theft vehicle lines was published in the Federal Register (70 FR 20481). The final listing identified that there were no new vehicle lines that became subject to the theft prevention standard beginning with the 2006 model year. For MY 2007, there were no new light-duty truck lines identified that became subject to the theft prevention standard in accordance with the procedures published in 49 CFR part 542. However, beginning September 1, 2006, all passenger cars, all MPVs (with a gross vehicle weight rating of 6,000 pounds or less), all light duty trucks (with a gross vehicle weight rating of 6,000 pounds or less) determined to be high-theft in accordance with 49 CFR 542.1, and all low-theft light duty trucks (with a gross vehicle weight rating of 6,000 pounds or less) having a majority of its major parts interchangeable with those of a passenger motor vehicle line in accordance with 49 CFR 542.2 will be subject to the parts marking requirements. At least 50 percent of the production volume not subject to the current parts marking requirements (excluding light duty trucks) must be marked by September 1, 2006. The remaining production volume not subject to the current parts marking requirements must be marked by September 1, 2007 (see 70 FR 28843, May 19, 2005).

Subsequent to publishing the 2006 final rule, eight manufacturers petitioned the agency for an exemption from the parts marking requirements of the Federal motor vehicle theft prevention standard. The agency granted petitions for exemptions to the DaimlerChrysler Corporation (DC) for the 300C vehicle line, Ford Motor Company for the Focus vehicle line, General Motors Corporation for the Chevrolet Malibu/Malibu Maxx vehicle line, Mazda Motor Corporation (Mazda) for the 3 vehicle line, Mercedes-Benz USA, LLC for the E-Line Chassis (E-Class/CLS Class) vehicle line, Mitsubishi Motors Corporation (Mitsubishi) for the Endeavor vehicle line, Nissan North America, Inc., for the Nissan Quest and Fuji Heavy Industries, USA for the Subaru B9 Tribeca vehicle line, all beginning with the 2006 model year.

Additionally, petitions for exemption from the parts marking requirements were withdrawn from the DaimlerChrysler Corporation for the Jeep Liberty (See 70 FR 53713) and Ford Motor Company for its Thunderbird vehicle line (See 70 FR 53714) beginning with the 2006 model year.

For MY 2007, the list of lines that have been exempted by the agency from the parts-marking requirements of Part 541 includes seven vehicle lines newly exempted in full. The seven exempted vehicle lines are the DaimlerChrysler Dodge Charger, General Motors Pontiac G6, the Mazda CX-7, the Mercedes-Benz S-Line Chassis (S-Class/CL-Class), the Nissan Sentra, the Volkswagen Audi A4 and the Suzuki XL-7.

We note that the agency is removing from the list being published in the Federal Register certain vehicles lines that have been discontinued more than 5 years ago. The agency will continue to maintain a comprehensive database of all exemptions on our Web site. However, we believe that re-publishing a list containing vehicle lines that have not been in production for a considerable period of time is unnecessary.

The vehicle lines listed as being exempt from the standard have previously been exempted in accordance with the procedures of 49 CFR part 543 and 49 U.S.C. 33106.

Therefore, NHTSA finds for good cause that notice and opportunity for comment on these listings are unnecessary. Further, public comment on the listing of selections and exemptions is not contemplated by 49 U.S.C. Chapter 331.

For the same reasons, since this revised listing only informs the public of previous agency actions and does not impose additional obligations on any party, NHTSA finds for good cause that the amendment made by this notice should be effective as soon as it is published in the Federal Register.

Regulatory Impacts

A. Executive Order 12866 and DOT Regulatory Policies and Procedures

Executive Order 12866, “Regulatory Planning and Review” (58 FR 51735, October 4, 1993), provides for making determinations whether a regulatory action is “significant” and therefore subject to Office of Management and Budget (OMB) review and to the requirements of the Executive Order. The Order defines a “significant regulatory action” as one that is likely to result in a rule that may:

(1) Have an annual effect on the economy of $100 million or more or adversely affect in a material way the economy, a sector of the economy, productivity, competition, jobs, the environment, public health or safety, or State, local, or Tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

This final rule was not reviewed under Executive Order 12866. It is not significant within the meaning of the DOT Regulatory Policies and Procedures. It will not impose any new burdens on vehicle manufacturers. This document informs the public of previously granted exemptions. Since the only purpose of this final rule is to inform the public of previous actions taken by the agency no new costs are burdens will result.

B. Regulatory Flexibility Act

The Regulatory Flexibility Act of 1980 (5 U.S.C. 601 et seq.) requires agencies to evaluate the potential effects of their rules on small businesses, small organizations and small governmental jurisdictions. I have considered the effects of this rulemaking action under the Regulatory Flexibility Act and certify that it would not have a significant economic impact on a substantial number of small entities. As noted above, the effect of this final rule is only to inform the public of agency's previous actions.

C. National Environmental Policy Act

NHTSA has analyzed this final rule for the purposes of the National Environmental Policy Act. The agency has determined that implementation of this action will not have any significant impact on the quality of the human environment. Accordingly, no environmental assessment is required.

D. Executive Order 13132 (Federalism)

The agency has analyzed this rulemaking in accordance with the principles and criteria contained in Executive Order 13132 and has determined that it does not have sufficient federal implications to warrant consultation with State and local officials or the preparation of a federalism summary impact statement.

E. Unfunded Mandates Act

The Unfunded Mandates Reform Act of 1995 requires agencies to prepare a written assessment of the costs, benefits and other effects of proposed or final rules that include a Federal mandate likely to result in the expenditure by State, local or tribal governments, in the aggregate, or by the private sector, of more than $100 million annually ($120.7 million as adjusted annually for inflation with base year of 1995). The assessment may be combined with other assessments, as it is here.

This final rule will not result in expenditures by State, local or tribal governments or automobile manufacturers and/or their suppliers of more than $120.7 million annually. This document informs the public of previously granted exemptions. Since the only purpose of this final rule is to inform the public of previous actions taken by the agency, no new costs or burdens will result.

F. Executive Order 12988 (Civil Justice Reform)

Pursuant to Executive Order 12988, “Civil Justice Reform” ¹, the agency has considered whether this final rule has any retroactive effect. We conclude that it would not have such an effect. In accordance with § 33118 when the Theft Prevention Standard is in effect, a State or political subdivision of a State may not have a different motor vehicle theft prevention standard for a motor vehicle or major replacement part. 49 U.S.C. 33117 provides that judicial review of this rule may be obtained pursuant to 49 U.S.C. 32909. Section 32909 does not require submission of a petition for reconsideration or other administrative proceedings before parties may file suit in court.

¹ See 61 FR 4729, February 7, 1996.

List of Subjects in 49 CFR Part 541

Administrative practice and procedure, Labeling, Motor vehicles, Reporting and recordkeeping requirements.

In consideration of the foregoing, 49 CFR part 541 is amended as follows:

PART 541—[AMENDED]

1. The authority citation for Part 541 continues to read as follows:

Authority: 49 U.S.C. 33102-33104 and 33106; delegation of authority at 49 CFR 1.50.

2. In part 541, Appendix A-I is revised. Appendix A-I is revised to read as follows:

Appendix A-I to Part 541—Lines With Antitheft Devices Which Are Exempted From the Parts-Marking Requirements of This Standard Pursuant to 49 CFR Part 543

Manufacturer | Subject lines
BMW | MINI.
| X5.
| Z4.
| 3 Car Line.
| 5 Car Line.
| 6 Car Line.
| 7 Car Line.
DAIMLERCHRYSLER | 300C.²
| Jeep Grand Cherokee.
| Chrysler Conquest.
| Chrysler Town and Country MPV.
| Dodge Charger.¹
FORD MOTOR CO | Focus.²
| Lincoln Town Car.
| Mustang.
| Mercury Sable (2001-2004).
| Mercury Grand Marquis.
| Taurus (2000-2004).
GENERAL MOTORS | Buick Lucerne.
| Buick LeSabre.
| Buick LaCrosse/Century.
| Buick Park Avenue.
| Buick Regal/Century.
| Cadillac DTS/Deville.
| Cadillac STS/Seville.
| Chevrolet Cavalier.
| Chevrolet Classic.
| Chevrolet Cobalt.³
| Chevrolet Corvette.
| Chevrolet Impala/Monte Carlo.
| Chevrolet Lumina/Monte Carlo (1996-1999).
| Chevrolet Malibu (2001-2003).
| Chevrolet Malibu/Malibu Maxx.²
| Chevrolet Uplander.
| Chevrolet Venture (2002-2004).
| Oldsmobile Alero.
| Oldsmobile Aurora.
| Pontiac Bonneville.
| Pontiac G6.¹
| Pontiac Grand Am.
| Pontiac Grand Prix.
| Pontiac Sunfire.
HONDA | Acura CL.
| Acura NSX.
| Acura RL.
| Acura TL.
ISUZU | Axiom.
JAGUAR | XK.
MAZDA | 3.²
| 6.
| CX-7.¹
| MX-5 Miata.
| RX-7/8.
| Millenia.
MERCEDES-BENZ | SL-Class (the models within this line are):
| 300SL.
| 500SL.
| 600SL.
| SL500.
| SL550.
| SL600.
| SL55.
| SL65.
| S-Class/CL-Class ¹ (the models within this line are):
| S450.
| S500.
| S550.
| S600.
| S55.
| S65.
| CL500.
| CL600.
| CL55.
| CL65.
| C-Class (the models within this line are):
| C220/230.
| C240.
| C280/320.
| C36/43/55.
| E-Class/CLS Class ² (the models within this line are):
| E320/E320DT CDi.
| E350/E500/E55.
| CLS500/CLS55.
MITSUBISHI | Endeavor ².
| Galant.
| Diamante.
NISSAN | Altima.
| Maxima.
| Pathfinder.
| Quest.²
| Sentra.¹
| 350Z.
| Infiniti G35.
| Infiniti I30.
| Infiniti J30.
| Infiniti M30.
| Infiniti M45.
| Infiniti QX4.
| Infiniti Q45.
PORSCHE | 911.
| Boxster/Cayman.
SAAB | 9-3.
SUBARU | B9 Tribeca.²
SUZUKI | XL-7.¹
TOYOTA | Lexus ES.
| Lexus GS.
| Lexus LS.
| Lexus SC.
VOLKSWAGEN | Audi 5000S.
| Audi A4.¹
| Audi Allroad.
| A6.
| Cabrio.
| Golf/GTI.
| Jetta.
| Passat.
¹ Granted an exemption from the partsmarking requirements beginning with MY 2007.
² Granted an exemption from the partsmarking requirements beginning with MY 2006.
³ Granted an exemption from the partsmarking requirements beginning with MY 2005.

Issued on: April 13, 2006.
H. Keith Brewer,
Director, Office of Crash Avoidance Standards.

[FR Doc. 06-3692 Filed 4-18-06; 8:45 am]

BILLING CODE 4910-59-P